FEDERAL RESERVE SYSTEM

Notice of Proposals To Engage in Permissible Nonbanking Activities or To Acquire Companies That Are Engaged in Permissible Nonbanking Activities

The companies listed in this notice have given notice under section 4 of the Bank Holding Company Act (12 U.S.C. 1843) (BHC Act) and Regulation Y, (12 CFR part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act. Additional information on all bank holding companies may be obtained from the National Information Center website at www.ffiec.gov/nic/.

Unless otherwise noted, comments regarding the applications must be received at the Reserve Bank indicated or the offices of the Board of Governors not later than June 5, 2000.

A. Federal Reserve Bank of New York (Betsy Buttrill White, Senior Vice President) 33 Liberty Street, New York, New York 10045-0001:

1. National Bank of Greece, S.A., Athens, Greece; to acquire NBG Asset Management Inc. and NBG Securities Inc., both of New York, New York, and thereby indirectly acquire through NBG International Limited, London, England, indirect control of Newbrook Group LLC, New Brook Capital Management, Inc., Newbrook Capital Management LLC, and Newbrook Securities LLC, and thereby engage in investment advisory activities, pursuant to § 225.28(b)(6) of Regulation Y; brokerage, riskless principal, and private placement activities, pursuant to §§ 225.28(b)(7)(i), (ii) and (iii) of Regulation Y, respectively; and private investment fund activities, including acting as a commodity pool operator for and controlling private investment funds that invest solely in assets that a bank holding company is permitted to hold directly, see Travelers Group, Inc., and Citicorp, 84 Fed. Res. Bull. 985 (1998).

Board of Governors of the Federal Reserve System, May 16, 2000.
Robert deV. Frierson,
Associate Secretary of the Board.

[FR Doc. 00-12708 Filed 5-19-00; 8:45 am]

BILLING CODE 6210-01-P